SOCIAL SECURITY ADMINISTRATION

Agency Information Collection Activities: Proposed Request, Comment Request

The Social Security Administration (SSA) publishes a list of information collection packages requiring clearance by the Office of Management and Budget (OMB) in compliance with Public Law (Pub. L.) 104-13, the Paperwork Reduction Act of 1995, effective October 1, 1995. This notice includes extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Director to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than October 4, 2010. Individuals can obtain copies of the collection instruments by calling the SSA Director for Reports Clearance at 410-965-0454 or by writing to the above e-mail address.

Work History Report—20 CFR 404.1515, 404.1560, 404.1565, 416.960 and 416.965-0960-0578. Under certain circumstances, SSA asks individuals about work they have performed in the past. Applicants use Form SSA-3369 to provide detailed information about jobs held prior to becoming unable to work. State Disability Determination Services evaluate the information, together with medical evidence, to determine eligibility for disability.

Type of Request: Revision of an OMB-approved information collection.

Collection method | Number of respondents | Frequency of response | Average burden per response (hours) | Estimated annual burden hours
SSA-3369 (Paper form) | 1,090,346 | 1 | 1 | 1,090,346
EDCS 3369 | 607,122 | 1 | 1 | 607,122
Totals | 1,697,468 |  |  | 1,697,468

II. SSA has submitted the information collections listed below to OMB for clearance. Your comments on the information collections would be most useful if OMB and SSA receive them within 30 days from the date of this publication. To be sure we consider your comments, we must receive them no later than September 2, 2010. You can obtain a copy of the OMB clearance packages by calling the SSA Director for Reports Clearance at 410-965-0454 or by writing to the above e-mail address.

Application for Child's Insurance Benefits—20 CFR 404.350-404.368, 404.603, & 416.350—0960-0010. SSA uses Form SSA-4-BK to determine if children of living and deceased workers are entitled to their parents' monthly Social Security payments. The respondents are guardians completing the form on behalf of the children of living or deceased workers, or the children of living or deceased workers.

Type of Request: Revision of an OMB-approved information collection.

Collection method | Number of respondents | Frequency of response | Response time (minutes) | Burden (hours)
Life claims (paper) | 8,052 | 1 | 12 | 1,610
Life Claims (MCS) | 152,983 | 1 | 12 | 30,597
Life Claims- Signature Proxy | 152,983 | 1 | 11 | 28,047
Death Claims (paper) | 19,061 | 1 | 12 | 3,812
Death Claims (MCS) | 362,150 | 1 | 12 | 72,430
Death Claims-Signature Proxy | 362,150 | 1 | 11 | 66,394
Totals | 1,057,379 |  |  | 202,890

Liz Davidson,
Director, Center for Reports Clearance, Social Security Administration.

[FR Doc. 2010-19024 Filed 8-2-10; 8:45 am]

BILLING CODE 4191-02-P